DEPARTMENT OF ENERGY

Federal Energy Regulatory Commission

[Project No. 2342-012]

PacifiCorp; Notice of Petition for Declaratory Order

June 14, 2001.

On June 1, 2001, PacifiCorp filed a petition for declaratory order regarding the Condit Hydroelectric Project No. 2343. PacifiCorp requests the Commission to issue a declaratory order finding that the Commission has jurisdiction to entertain and grant the relief requested in PacifiCorp's pending application for Amendment of License and Approval of Offer of Settlement which was filed with the Commission on October 21, 1999. Specifically, PacifiCorp seeks a determination to clarify whether the Commission has the authority to extend the term of its original license through 2006 and to incorporate into the license terms and conditions relating to project decommissioning and removal of project facilities upon expiration of the extended license.¹

¹ The original license for the project was issued to PacifiCorp's predecessor, Pacific Power and Light Company on December 20, 1968. PacifiCorp timely filed an application for new license in December 1991, two years before the December 31, 1993 expiration date for its original license. Since expiration of the original license, project operations have continued pursuant to annual license, pending disposition of the relicense application.

Any person desiring to be heard or to protest the petition should file comments, protests, or motions to intervene in accordance with the requirements of the Commission's Rules of Practice and Procedure, 18 CFR 385.210, 385.211 and 385.214. In determining the appropriate action to be taken, the Commission will consider all protests and comments, but only those who file a motion to intervene may become parties to the proceeding. Comments, protests, or motions to intervene must be filed within 30 days from publication of this notice in the Federal Register and must bear in all capital letters the title “COMMENTS,” “PROTEST,” or “MOTION TO INTERVENE,” as applicable, and Project No. 2342-012.

Comments, protests and interventions may be filed electronically via the internet in lieu of paper. See, 18 CFR 385.2001(a)(1)(iii) and the instructions on the Commission's web site at http://www.ferc.fed.us/efi/doorbell.htm.

Send the filings (original and 8 copies) to: David P. Boergers, Secretary, Federal Energy Regulatory Commission, 888 First Street, NE., Washington, DC 20426. Copies of the petition for declaratory order are on file with the Commission and are available for public inspection in Room 2A and may be viewed on the web at http/://www.ferc.fed.us/online/rims.htm (please call (202) 208-2222 for assistance).

Linwood A. Watson, Jr.,
Acting Secretary.

[FR Doc. 01-15522 Filed 6-19-01; 8:45 am]

BILLING CODE 6717-01-M